DEPARTMENT OF TRANSPORTATION

Federal Aviation Administration

Notice of Extension to Public Comment Period—Notice of Intent To Prepare an Environmental Impact Statement, Initiate Section 106 Consultation, and Request for Scoping Comments for the Proposed Airfield, Safety, and Terminal Improvement Project at West Virginia International Yeager Airport, Charleston, Kanawha County, West Virginia

AGENCY: Federal Aviation Administration (FAA), Department of Transportation (DOT).

ACTION: Notice of a 12-day extension to the public scoping comment period for the proposed Airfield, Safety, and Terminal Improvement Project at West Virginia International Yeager Airport, Charleston, Kanawha County, West Virginia.

SUMMARY: The Federal Aviation Administration (FAA) is issuing this notice to advise the public that the scoping comment period for the proposed Airfield, Safety, and Terminal Improvement Project and its connected actions (Proposed Action) has been extended by 12 days. This notice announces the extension of the public comment period to solicit public comments on the scope of the environmental impact statement (EIS).

DATES: The EIS scoping comment period began on September 30, 2022, was originally scheduled to end on November 17, 2022, and has been extended to end on November 29, 2022. All comments must be received by no later than 5 p.m. Eastern Time, Tuesday, November 29, 2022.

FOR FURTHER INFORMATION CONTACT: Mr. Andrew Brooks, Environmental Program Manager, Eastern Regional Office, AEA-610, Federal Aviation Administration, 1 Aviation Plaza, Jamaica, NY 11434. Telephone: 718-553-2511.

SUPPLEMENTARY INFORMATION: The purpose of the scoping process is to receive input from the public, as well as from federal, state, and local agencies that have legal jurisdiction and/or special expertise, with respect to any potential environmental impacts associated with the Proposed Action, as well as concerns, issues, and alternatives they believe should be addressed in the EIS. During the scoping process, questions regarding the scope and EIS process will be considered. More information about the Proposed Action, the EIS process, and the scoping meetings can be found at www.yeagerairporteis.com.

The scoping process for this EIS includes a comment period for interested agencies and members of the public to submit comments with respect to any potential environmental impacts associated with the Proposed Action, or comments representing the concerns, issues, and alternatives they believe should be addressed in the EIS.

During the ongoing scoping comment period, the FAA received several requests from members of the public for an extension to the comment period. In response, the FAA has agreed to extend the scoping comment period by 12 additional days. The public comment period on the scoping phase of the EIS will now end at 5 p.m. eastern time on November 29, 2022. Comments should be addressed to the individual listed in For Further Information Contact, or by email to comments@yeagerairporteis.com.

Issued in Beaver, West Virginia, November 7, 2022.
Matthew Digiulian,
Manager, Beckley Airport Field Office, Airports Division, Eastern Region.

[FR Doc. 2022-24659 Filed 11-10-22; 8:45 am]

BILLING CODE 4910-13-P